INTERNATIONAL TRADE COMMISSION

[Investigation No. 337-TA-1461]

Certain Smart Televisions; Notice of Institution of Investigation

AGENCY: U.S. International Trade Commission.

ACTION: Notice.

SUMMARY: Notice is hereby given that a complaint was filed with the U.S. International Trade Commission on August 4, 2025, under section 337 of the Tariff Act of 1930, as amended, on behalf of Cerence Operating Company of Burlington, Massachusetts. Letters supplementing the complaint were filed on August 25, September 8, and September 11, 2025. The complaint, as supplemented, alleges violations of section 337 based upon the importation into the United States, the sale for importation, and the sale within the United States after importation of certain smart televisions by reason of the infringement of certain claims of U.S. Patent No. 7,840,579 (“the '579 patent”); U.S. Patent No. 7,894,598 (“the '598 patent”); U.S. Patent No. 8,189,810 (“the '810 patent”); and U.S. Patent No. 9,171,541 (“the '541 patent”). The complaint, as supplemented, further alleges that an industry in the United States exists as required by the applicable Federal Statute. The complainant requests that the Commission institute an investigation and, after the investigation, issue a limited exclusion order and cease and desist orders.

ADDRESSES: The complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Pathenia Proctor, The Office of Unfair Import Investigations, U.S. International Trade Commission, telephone (202) 205-2560.

SUPPLEMENTARY INFORMATION:

Authority: The authority for institution of this investigation is contained in section 337 of the Tariff Act of 1930, as amended, 19 U.S.C. 1337, and in section 210.10 of the Commission's Rules of Practice and Procedure, 19 CFR 210.10 (2025).

Scope of Investigation: Having considered the complaint, the U.S. International Trade Commission, on September 25, 2025, Ordered That—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of claims 1-59 of the '579 patent; claims 1-29 of the '598 patent; claims 1-23 of the '810 patent; and claims 1-31 of the '541 patent, and whether an industry in the United States exists as required by subsection (a)(2) of section 337;

(2) Pursuant to section 210.10(b)(1) of the Commission's Rules of Practice and Procedure, 19 CFR 210.10(b)(1), the plain language description of the accused products or category of accused products, which defines the scope of the investigation, is “televisions with smart features and functionality”;

(3) For the purpose of the investigation so instituted, the following are hereby named as parties upon which this notice of investigation shall be served:

(a) The complainant is: Cerence Operating Company, 25 Burlington Mall Road, Suite 416, Burlington, Massachusetts 01803.

(b) The respondents are the following entities alleged to be in violation of section 337, and are the parties upon which the complaint is to be served:

Sony Group Corporation, 1-7-1 Konan Minato-ku, Tokyo 108-0075 Japan

Sony Corporation of America, 25 Madison Avenue, New York, New York 10010

Sony Electronics Inc., 16535 Via Esprillo, San Diego, California 92127

TCL Industries Holdings Co., Ltd., 22nd Floor, TCL Technical Tower, Huifeng 3 Road, Zhongkai Development, Zone Huizhou, Guangdong, China 516006

TCL Technology Group Corporation, TCL Technology Building, No. 17 Huifeng Third Road, Zhongkai High-Tech Development Zone, Huizhou, Guangdong, China 516001

TCL Electronics Holdings Limited, 5th Floor, Building 22E, 22 Science Park East Avenue, Hong Kong Science Park, Shatin, New Territories, Hong Kong

Manufacturas Avanzadas, S.A. de C.V., Blvd. Independecia No. 2151, Ciudad Juarez, Chihuahua, 32580, Mexico

Shenzhen TCL New Technology Co., Ltd., 9th Floor, TCL Electronics Holdings Limited Building, TCL International E City, No. 1001 Zhongshan Park Road, Nanshan, China 518067

T.C.L. Industries Holdings (H.K.) Limited, 8th Floor, Building 22E, 22 Science Park East Avenue, Hong Kong Science Park, Shatin, New Territories, Hong Kong

TCL King Electrical Appliances (Huizhou) Company Limited, No. 78, Huifeng 4 Road, Zhongkai Development Zone, Huizhou, China 516006

TCL Optoelectronics Technology (Huizhou) Co., Ltd., No. 78, Huifeng 4 Road, Zhongkai Development Zone, Huizhou, China 516006

TCL Overseas Marketing Limited, 5th Floor, Building 22E, 22 Science Park East Avenue, Hong Kong Science Park, Shatin, New Territories, Hong Kong

TCL Smart Device (Vietnam) Company Limited, No. 26 VSIP II-A, Street 32, Vietnam Singapore Industrial Park II-A Tan Binh Commune, Bac Tan Uyen District, Binh Duong Province, 75000, Vietnam

TTE Corporation, 7th Floor, Building 22E, 22 Science Park East Avenue, Hong Kong Science Park, Shatin, New Territories, Hong Kong

TTE Technology, Inc. (d/b/a TCL North, America), 1860 Compton Avenue, Corona, California 92881

(c) The Office of Unfair Import Investigations, U.S. International Trade Commission, 500 E Street SW, Suite 401, Washington, DC 20436; and

(4) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: September 25, 2025.
Lisa Barton,
Secretary to the Commission.

[FR Doc. 2025-18951 Filed 9-29-25; 8:45 am]

BILLING CODE 7020-02-P